DEPARTMENT OF THE TREASURY

Office of the Comptroller of the Currency

Agency Information Collection Activities: Information Collection Renewal; Comment Request: Record and Disclosure Requirements—Consumer Financial Protection Bureau Regulations B, C, E, M, Z, and DD and Board of Governors of the Federal Reserve System Regulation CC

AGENCY: Office of the Comptroller of the Currency (OCC), Treasury.

ACTION: Notice and request for comment.

SUMMARY: The OCC, as part of its continuing effort to reduce paperwork and respondent burden, invites the general public and other Federal agencies to comment on the renewal of an information collection as required by the Paperwork Reduction Act of 1995 (PRA).

An agency may not conduct or sponsor, and a respondent is not required to respond to, an information collection unless it displays a currently valid Office of Management and Budget (OMB) control number.

The OCC is soliciting comment concerning the renewal of an information collection titled, “Record and Disclosure Requirements—Consumer Financial Protection Bureau (CFPB) Regulations B, C, E, M, Z, and DD and Board of Governors of the Federal Reserve System (FRB) Regulation CC.”

DATES: Comments must be submitted on or before February 21, 2017.

ADDRESSES: Because paper mail in the Washington, DC area and at the OCC is subject to delay, commenters are encouraged to submit comments by email, if possible. Comments may be sent to: Legislative and Regulatory Activities Division, Office of the Comptroller of the Currency, Attention: 1557-0176, 400 7th Street SW., Suite 3E-218, mail stop 9W-11, Washington, DC 20219. In addition, comments may be sent by fax to (571) 465-4326 or by electronic mail to pracomments@occ.treas.gov. You may personally inspect and photocopy comments at the OCC, 400 7th Street SW., Washington, DC 20219. For security reasons, the OCC requires that visitors make an appointment to inspect comments. You may do so by calling (202) 649-6700 or, for persons who are deaf or hard of hearing, TTY, (202) 649-5597. Upon arrival, visitors will be required to present valid government-issued photo identification and submit to security screening in order to inspect and photocopy comments.

All comments received, including attachments and other supporting materials, are part of the public record and subject to public disclosure. Do not enclose any information in your comment or supporting materials that you consider confidential or inappropriate for public disclosure.

FOR FURTHER INFORMATION CONTACT: Shaquita Merritt, OCC Clearance Officer, (202) 649-5490 or, for persons who are deaf or hard of hearing, TTY, (202) 649-5597, Legislative and Regulatory Activities Division, Office of the Comptroller of the Currency, 400 7th Street SW., Suite 3E-218, mail stop 9W-11, Washington, DC 20219.

SUPPLEMENTARY INFORMATION: Under the PRA (44 U.S.C. 3501-3520), Federal agencies must obtain approval from OMB for each collection of information that they conduct or sponsor. The term “collection of information” is defined in 44 U.S.C. 3502(3) and 5 CFR 1320.3(c) and includes agency requests or requirements that members of the public submit reports, keep records, or provide information to a third party. Section 3506(c)(2)(A) of title 44 requires Federal agencies to publish a 60-day notice in the Federal Register concerning each proposed collection of information, including each proposed extension of an existing collection of information, before submitting the collection to OMB for approval. To comply with this requirement, the OCC is publishing this notice of the renewal of the following information collection:

Title: Record and Disclosure Requirements—Consumer Financial Protection Bureau (CFPB) Regulations B, C, E, M, Z, and DD and Board of Governors of the Federal Reserve System (FRB) Regulation CC.

OMB Control No.: 1557-0176.

Type of Review: Regular review.

Affected Public: Businesses or other for-profit.

Frequency of Response: On occasion.

Burden Estimates:

Estimated Number of Respondents: 1,390.

Estimated Annual Burden: 3,887,872 hours.

Description: This information collection covers CFPB Regulations B, C, E, M, Z, and DD and FRB Regulation CC. The CFPB and FRB regulations include the following provisions:

Reg B—12 CFR 1002—Equal Credit Opportunity Act

This regulation implements the Equal Credit Opportunity Act (15 U.S.C. 1601 et seq.). The regulation prohibits lenders from discriminating against credit applicants on a prohibited basis, establishes rules for retaining records of credit applications and collecting information about the applicant's race and other personal characteristics in applications for certain dwelling-related loans, requires lenders to report the credit history in the names of both spouses on an account, requires lenders to provide applicants with copies of appraisal reports in connection with credit transactions, and requires notification of action taken on a credit application.

Reg C—12 CFR 1003—Home Mortgage Disclosure

This regulation implements the requirements of the Home Mortgage Disclosure Act (12 U.S.C. 2801 et seq.). The regulation requires certain financial institutions to report data to the appropriate Federal agency about home purchase loans, home improvement loans, and refinancings that it originates or purchases, or for which it receives certain applications, and to disclose certain data to the public.

Reg E—12 CFR 1005—Electronic Fund Transfers

This regulation carries out the purposes of the Electronic Fund Transfer Act (15 U.S.C. 1693 et seq.), which establishes the basic rights, liabilities, and responsibilities of consumers who use electronic fund transfers and remittance transfer services and the financial institutions or other persons that offer these services.

Reg M—12 CFR 1013—Consumer Leasing

This regulation implements the consumer leasing provisions of the Truth in Lending Act (12 U.S.C. 1601 et seq.). The regulation: Ensures that lessees of personal property receive meaningful disclosures that enable them to compare lease terms with other leases and, where appropriate, with credit transactions; limits the amount of balloon payments in consumer lease transactions; and provides for accurate disclosure of lease terms in advertising.

Reg Z—12 CFR 1026—Truth in Lending

This regulation implements the Truth in Lending Act (15 U.S.C. 1601 et seq.) and certain provisions of the Real Estate Settlement Procedures Act (12 U.S.C. 2601 et seq.). The regulation prescribes uniform methods for computing the cost of credit, disclosing credit terms and costs, and resolving errors on certain types of credit accounts.

Reg CC—12 CFR 229—Availability of Funds and Collection of Checks

This regulation implements the Expedited Funds Availability Act (12 U.S.C. 4001-4010) and the Check Clearing for the 21st Century Act (12 U.S.C. 5001-5018). The regulation contains: Rules regarding the duty of banks to make funds deposited into accounts available for withdrawal, including availability schedules and the disclosure of funds availability practices; rules to expedite the collection and return of checks by banks; and general provisions relating to substitute checks, including the disclosure and notices that banks must provide.

Reg DD—12 CFR 1030—Truth in Savings

This regulation implements the Truth in Savings Act (12 U.S.C. 4301 et seq.). The regulation requires depository institutions to provide disclosures so that consumers can meaningfully compare accounts at different depository institutions.

Comments: Comments submitted in response to this notice will be summarized and/or included in the request for OMB approval. All comments will become a matter of public record. Comments are invited on:

(a) Whether the collection of information is necessary for the proper performance of the functions of the OCC, including whether the information has practical utility;

(b) The accuracy of the OCC's estimate of the information collection burden;

(c) Ways to enhance the quality, utility, and clarity of the information to be collected;

(d) Ways to minimize the burden of the collection on respondents, including through the use of automated collection techniques or other forms of information technology; and

(e) Estimates of capital or start-up costs and costs of operation, maintenance, and purchase of services to provide information.

Dated: December 13, 2016.
Karen Solomon,
Deputy Chief Counsel, Office of the Comptroller of the Currency.

[FR Doc. 2016-30497 Filed 12-19-16; 8:45 am]

BILLING CODE 4810-33-P